NATIONAL FOUNDATION ON THE ARTS AND THE HUMANITIES

National Endowment for the Arts; Arts Advisory Panel—Notice of Change

Pursuant to section 10(a)(2) of the Federal Advisory Committee Act (Pub. L. 92-463), as amended, notice is hereby given that a teleconference application review meeting of the Arts Advisory Panel (AccessAbility section) to the National Council on the Arts, previously announced for June 7, 2006, will instead be held on June 19, 2006, from 2 p.m.-3 p.m. (EDT) from the Nancy Hanks Center, 1100 Pennsylvania Avenue, NW., Washington, DC 20506 (ending time is approximate).

Closed meetings are for the purpose of Panel review, discussion, evaluation, and recommendations on financial assistance under the National Foundation on the Arts and the Humanities Act of 1965, as amended, including information given in confidence to the agency. In accordance with the determination of the Chairman of February 27, 2006, these sessions will be closed to the public pursuant to subsection (c)(6) of section 552b of Title 5, United States Code.

Further information with reference to these meetings can be obtained from Ms. Kathy Plowitz-Worden, Office of Guidelines & Panel Operations, National Endowment for the Arts, Washington, DC 20506, or call 202/682-5691.

Dated: May 29, 2006.
Kathy Plowitz-Worden,
Panel Coordinator, Panel Operations, National Endowment for the Arts.

[FR Doc. E6-8662 Filed 6-2-06; 8:45 am]

BILLING CODE 7537-01-P